DEPARTMENT OF COMMERCE

Foreign-Trade Zones Board

[Docket 48-2007]

Foreign-Trade Zone 219 - Yuma, Arizona, Application for Subzone, Johnson Controls Battery Group, Inc., (Lead-Acid Batteries), Yuma, Arizona

An application has been submitted to the Foreign-Trade Zones Board (the Board) by the Yuma County Airport Authority, grantee of FTZ 219, requesting special-purpose subzone status for the manufacture of lead-acid batteries at the facility of Johnson Controls Battery Group, Inc. (JCBGI), located in Yuma, Arizona. The application was submitted pursuant to the provisions of the Foreign-Trade Zones Act, as amended (19 U.S.C. 81a-81u), and the regulations of the Board (15 CFR part 400). It was formally filed on September 28, 2007.

The JCBGI facility (120 employees, 15 acres, 4-5 million battery/year capacity) is located at 3470 South Arizona Avenue, in Yuma, Arizona. The facility will be used to form, fill and distribute batteries (duty-free) using imported unformed batteries (duty-free).

The application indicates that FTZ designation would allow JCBGI to utilize certain CBP procedures resulting in increased efficiencies for its logistics operations, and would also have state/local tax-related benefits. The request indicates that the savings from FTZ procedures would help improve the plant's international competitiveness.

In accordance with the Board's regulations, a member of the FTZ staff has been designated examiner to investigate the application and report to the Board.

Public comment is invited from interested parties. Submissions (original and 3 copies) shall be addressed to the Board's Executive Secretary at the address below. The closing period for their receipt is December 10, 2007. Rebuttal comments in response to material submitted during the foregoing period may be submitted during the subsequent 15-day period to December 24, 2007.

A copy of the application and accompanying exhibits will be available for public inspection at each of the following locations:

Yuma County Airport Authority, 2191 E. 32nd Street, Suite 218, Yuma, Arizona 85365.

Office of the Executive Secretary, Foreign-Trade Zones Board, U.S. Department of Commerce, Room 2111, 1401 Constitution Ave. NW, Washington, DC 20230.

For further information, contact Elizabeth Whiteman at Elizabeth_Whiteman@ita.doc.gov or (202) 482-0473.

Dated: September 28, 2007.
Andrew McGilvray,
Executive Secretary.

[FR Doc. E7-19824 Filed 10-5-07; 8:45 am]

BILLING CODE 3510-DS-S